COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) from the Procurement List previously furnished by such agencies.

DATES: Date added to and deleted from the Procurement List: March 08, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Addition

On December 29, 2025, the Committee for Purchase From People Who Are Blind or Severely Disabled (operating as the U.S. AbilityOne Commission) published an initial notice of proposed additions to the Procurement List. (90 FR 60683) The Committee determined that the services listed below are suitable for procurement by the Federal Government and has added these services to the Procurement List as a mandatory purchase for the contracting activities listed. In accordance with 41 CFR 51-5.3(b), the mandatory purchase requirement is limited to contracting activities at the locations listed and in accordance with 41 CFR 51-5.2, the Committee has authorized the listed nonprofit agencies as the authorized source(s) of supply.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

End of Certification

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are added to the Procurement List:

Service Type: Document Destruction

Mandatory for: US Air Force, Oklahoma City-Air Logistics Complex, 7858 5th Street, Tinker, AFB, OK

Designated Source of Supply: The Meadows Center for Opportunity, Inc., Edmond, OK

Contracting Activity: DEPT OF THE AIR FORCE, FA8132 AFSC PZIMC

The Committee finds good cause to dispense with the 30-day delay in the effective date normally required by the Administrative Procedure Act. See 5 U.S.C. 553(d). This addition to the Committee's Procurement List is effectuated due to the requirements of the DEPT OF THE AIR FORCE. The Federal customer contacted and has worked diligently with the AbilityOne Program to fulfill this service need under the AbilityOne Program. To avoid performance disruption, and the possibility that the DEPT OF THE AIR FORCE will refer its business elsewhere, this addition must be effective on 2/25/2026, ensuring timely execution for a 3/1/2026 start date. The Committee published an initial notice of proposed Procurement List addition in the Federal Register on 12/29/2025 (90 FR 60683) but did not receive any comments. This addition will not create a public hardship and has limited effect on the public at large. Rather, this addition will create new jobs for other affected parties—people with significant disabilities in the AbilityOne program who otherwise face challenges locating employment. Moreover, this addition enables the Federal customer to continue operations without interruption.

Service Type:

Mandatory for: Department of Veterans Affairs, Memphis VA Medical Center and Outpatient Clinics, Memphis, TN, 116 N Pauline Street, Memphis, TN

Designated Source of Supply: Wiregrass Rehabilitation Center, Inc., Dothan, AL

Contracting Activity: DEPARTMENT OF VETERANS AFFAIRS, 249-NETWORK CONTRACT OFC 9(00249)

Deletion

On January 2, 2026, the Committee for Purchase From People Who Are Blind or Severely Disabled published notice of proposed deletions from the Procurement List. (91 FR 128) This notice was published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) are deleted from the Procurement List:

Product(s)

NSN(s)—Product Name(s):

5120-01-598-5652—Splitting Maul—6 lb, Sledge Eye, 36″ Fiberglass Handle

5120-01-598-5656—Splitting Maul—8 lb, Sledge Eye, 36″ Fiberglass Handle

Authorized Source of Supply: Keystone Vocational Services, Inc., Sharon, PA

Mandatory For: Total Government Requirement

Contracting Activity: GENERAL SERVICES ADMINISTRATION, FAS HEARTLAND REGIONAL ADMINISTRATO

TID 60638

NSN(s)—Product Name(s):

7920-01-215-6569—Cloth, Synthetic Shammy, Orange, 20″ x 23″

Authorized Source of Supply: Industries Blind and Visually Impaired, Inc., West Allis, WI

Mandatory For: Total Government Requirement

Contracting Activity: GSA/FSS GREATER SOUTHWEST ACQUISITI

Contracting Activity: DEPT OF VETERANS AFFAIRS, STRATEGIC ACQUISITION CENTER

TID 60639

NSN(s)—Product Name(s):

7420-01-617-1743—Talking Calculator, 508 Compliant, 12 Digit, Portable, Desktop, Battery Operated

Authorized Source of Supply: MidWest Enterprises for the Blind, Inc., Kalamazoo, MI

Mandatory For: Total Government Requirement

Contracting Activity: GSA/FAS ADMIN SVCS ACQUISITION BR(2

TID 60640

NSN(s)—Product Name(s):

5340-00-WIM-0076—Lanyard, 2 pc. Health Care

5340-00-WIM-0079—Lanyard, Red, White & Blue NASCAR

7045-00-NIB-0441—Navy Promotional Items, Digital Camouflage iPad Case with Navy Logo

7045-00-NIB-0442—Navy Promotional Items, Navy Screen Printed iPad Case with Navy Logo

7350-00-NIB-0147—Mug, 14oz. Blue Acrylic Mug, Health Care

7350-00-WIM-0149—Mug, 16oz. American Pride Travel Mug

7350-00-WIM-0150—Mug, 11oz. Acrylic Mug, Chaplain Corps

7350-00-WIM-0152—Mug, Acrylic, Navy Reserve, Transparent/Blue, 14oz.

7510-00-WIM-0535—Pencil, Carpenter, Navy Reserve, Yellow or Navy Blue, 7 1/16″ x ⅝″

7510-01-WIM-0100—Binder, 3 Ring, Navy Promotional, Chaplain, Letter, Navy Blue, 1″

7510-01-WIM-0105—3 Ring Binder

7510-01-WIM-0120—Book Cover, Navy Recruiting, Stretchable, 16 cm x 31 cm

7520-00-WIM-1472—Pen, Blue Lacq.—Health Care

7520-00-WIM-1473—Pen, Twist, Metal, Refillable, Navy Reserve, Blue Lacquered, Black Ink, Medium Pt.

7830-00-WIM-0012—Beverage Can Cooler, Blue w/3Color Imprint, NASCAR

7830-00-WIM-0026—Mini Pouch w/Ear Plugs, NASCAR

8405-00-WIM-0175—Ballcap, Recruiting and Promotional Materials, Better Quality, USN

8405-00-WIM-0176—Ballcap, Chaplain, Recruiting and Promotional Materials, USN

8405-00-WIM-0178—Ballcap, Recruiting and Promotional Materials, USN Reserve

8415-00-NIB-0141—Suit, Warm-Up, U.S. Navy, Navy Blue, Small

8415-00-NIB-0142—Suit, Warm-Up, U.S. Navy, Navy Blue, Medium

8415-00-NIB-0143—Suit, Warm-Up, U.S. Navy, Navy Blue, Large

8415-00-NIB-0144—Suit, Warm-Up, U.S. Navy, Navy Blue, X-Large

8415-00-NIB-0157—T-Shirt, Recruiting and Promotional Materials, Healthcare, USN, White, Large

8415-00-NIB-0158—T-Shirt, Recruiting and Promotional Materials, Healthcare, USN, White, -Large

8415-00-WIM-0170—Polo Shirt, Chaplain, Recruiting and Promotional Materials, USN, Dark, Large

8415-00-WIM-0171—Polo Shirt, Chaplain, Recruiting and Promotional Materials, USN, Dark, X-Large

9905-00-NIB-0089—Luggage Tag, Healthcare

9905-00-WIM-0092—Temporary Tattoos, NASCAR

9905-00-WIM-0095—Ruler, Notable African American

9905-00-WIM-0216—PLUSH SHAPE

9905-00-WIM-0217—Plush Bear

9905-00-WIM-0300—NASCAR Kit (up to 8 items in plastic bag)

Authorized Source of Supply: MidWest Enterprises for the Blind, Inc., Kalamazoo, MI

Mandatory For: DEPT OF THE NAVY

Contracting Activity: DEPT OF THE NAVY, US FLEET FORCES COMMAND

Contracting Activity: DEPT OF THE NAVY, NAVSUP FLT LOG CTR NORFOLK

Contracting Activity: DEPT OF THE NAVY, W39L USA NG READINESS CENTER

TID 60641

NSN(s)—Product Name(s):

7930-00-NIB-0212—Cleaner, Heavy Duty Glass, Concentrate, 2 Liter

Authorized Source of Supply: Beacon Lighthouse, Inc., Wichita Falls, TX

Mandatory For: DEPT OF THE VETERANS AFFAIRS

Contracting Activity: DEPT OF VETERANS AFFAIRS, 241-NETWORK CONTRACT OFC 01(00241)

TID 60642

NSN(s)—Product Name(s):

8405-01-547-2559—Poncho Liner, Wet Weather, U.S. Army, Universal Camouflage

Authorized Source of Supply: Winston-Salem Industries for the Blind, Inc., Winston-Salem, NC

Mandatory For: DEPT OF DEFENSE

Contracting Activity: DEFENSE LOGISTICS AGENCY, DLA TROOP SUPPORT

TID 60643

NSN(s)—Product Name(s):

8465-01-524-7309—Pouch, Bandoleer Ammunition, 6 Magazine, Universal Camouflage

Authorized Source of Supply: Mississippi Industries for the Blind (Inc), Jackson, MS

Mandatory For: DEPT OF DEFENSE

Contracting Activity: DEFENSE LOGISTICS AGENCY, DLA TROOP SUPPORT

TID 60644

NSN(s)—Product Name(s):

8465-01-525-5531—Hydration System, MOLLE, Universal Camouflage

Authorized Source of Supply: The Lighthouse for the Blind, Inc. (Seattle Lighthouse), Seattle, WA

Mandatory For: DEPT OF DEFENSE

Contracting Activity: DEFENSE LOGISTICS AGENCY, DLA TROOP SUPPORT

TID 60645

NSN(s)—Product Name(s):

8530-00-080-6341—Toothbrush, Adult, 6″

Mandatory For: DEPT OF DEFENSE

Contracting Activity: DEFENSE LOGISTICS AGENCY, DLA TROOP SUPPORT

TID 60646

NSN(s)—Product Name(s):

6520-00-890-2080—Dental Kit, Adult

Mandatory For: DEPT OF DEFENSE

Contracting Activity: DEFENSE LOGISTICS AGENCY, DLA TROOP SUPPORT

TID 60647

NSN(s)—Product Name(s):

6520-00-086-6554—Dental Kit, Child

Mandatory For: DEPT OF DEFENSE

Contracting Activity: DEFENSE LOGISTICS AGENCY, DLA TROOP SUPPORT

TID 60648

NSN(s)—Product Name(s):

6520-01-063-7477—Floss, Dental, Waxed, 100 Yards

6520-01-063-7477—Floss, Dental, Waxed, 200 Yards

Mandatory For: DEPT OF DEFENSE

Contracting Activity: DEFENSE LOGISTICS AGENCY, DLA TROOP SUPPORT

Michael R. Jurkowski,
Director, Business Operations.

[FR Doc. 2026-02348 Filed 2-5-26; 8:45 am]

BILLING CODE 6353-01-P